FEDERAL MARITIME COMMISSION

Ocean Transportation Intermediary License Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 019143NF.

Name: Ambrit-USA Inc.

Address: 2710 NW 30th Ave., Lauderdale Lakes, FL 33311.

Date Revoked: August 2, 2008.

Reason: Failed to maintain valid bonds.

License Number: 018511NF.

Name: Asco USA, L.L.C. dba Asco Freight Management and Venture Transport Line.

Address: 314 North Post Oak Lane, Houston, TX 77024.

Date Revoked: March 27, 2008.

Reason: Surrendered license voluntarily.

License Number: 020659N.

Name: Conceptum TBS Projects LLC.

Address: 612 East Grassy Sprain Rd., Yonkers, NY 10710-2312.

Date Revoked: August 13, 2008.

Reason: Surrendered license voluntarily.

License Number: 018482N.

Name: Dolphin Shipping, Inc.

Address: 1750 E. Ocean Blvd., Unit #1606, Long Beach, CA 90802.

Date Revoked: August 7, 2008.

Reason: Failed to maintain a valid bond.

License Number: 019054F.

Name: Dublin Worldwide Moving & Storage.

Address: 2831 Merced Street, San Leandro, CA 94577.

Date Revoked: August 6, 2008.

Reason: Failed to maintain a valid bond.

License Number: 007823N.

Name: (Europe/U.K.) Genesis Co. dba Genesis (EUROPE/U.K.) Ltd.

Address: 218 E. Main Street, Humble, TX 77338.

Date Revoked: August 7, 2008.

Reason: Failed to maintain a valid bond.

License Number: 017855N.

Name: 1st Class International, Inc. dba 1st Class Moving & Storage.

Address: 7272-D Park Circle Drive, Hanover, MD 21076.

Date Revoked: August 9, 2008.

Reason: Failed to maintain a valid bond.

License Number: 019641N.

Name: Fame Cargo International, Inc.

Address: 5879-B New Peachtree Rd., Doraville, GA 30340.

Date Revoked: August 7, 2008.

Reason: Failed to maintain a valid bond.

License Number: 003732F.

Name: Foremost International Cargo Services, Inc.

Address: 18811 Crenshaw Place, Torrance, CA 90504.

Date Revoked: August 29, 2008.

Reason: Failed to maintain a valid bond.

License Number: 020657NF.

Name: GTI International Logistics, LLC dba GTI Container Line.

Address: 74 Washington Street, Topsfield, MA 01983.

Date Revoked: August 5, 2008.

Reason: Surrendered license voluntarily.

License Number: 017915N.

Name: Greating Marine Inc. dba Advanced Cargo Management Inc.

Address: 2225 West Commonwealth Ave., Ste. 316, Alhambra, CA 91803.

Date Revoked: August 20, 2008.

Reason: Failed to maintain a valid bond.

License Number: 020158N.

Name: Hong Logistics, Inc.

Address: 852 Fairview Avenue, #6, Arcadia, CA 91007.

Date Revoked: August 30, 2008.

Reason: Failed to maintain a valid bond.

License Number: 017478N.

Name: JBA Transport & Logistics, Inc.

Address: 9140 Marina St., Ste. 201, Cond. Poinciana, Ponce, Puerto Rico 00717.

Date Revoked: August 14, 2008.

Reason: Failed to maintain a valid bond.

License Number: 019389N.

Name: M & H Shipping Corporation.

Address: 510 Coralridge Plaza, Ste. 103, City of Industry, CA 91756.

Date Revoked: July 24, 2008.

Reason: Failed to maintain a valid bond.

License Number: 018305F.

Name: McLogix, Inc.

Address: 18030 S. Figueroa Street, Gardena, CA 90248.

Date Revoked: August 12, 2008.

Reason: Surrendered license voluntarily.

License Number: 019788N.

Name: Miriam Family Cargo, Inc.

Address: 18 NW 12th Avenue, Miami, FL 33128.

Date Revoked: August 30, 2008.

Reason: Failed to maintain a valid bond.

License Number: 001772F.

Name: Norvanco International, Inc.

Address: 3514 142nd Avenue E., Sumner, WA 98390.

Date Revoked: August 11, 2008.

Reason: Failed to maintain a valid bond.

License Number: 020303F.

Name: Panda Logistics USA, Inc.

Address: 19600 S. Alameda Street, Ste. 1, E. Rancho Dominguez, CA 90221.

Date Revoked: August 15, 2008.

Reason: Failed to maintain a valid bond.

License Number: 015847F.

Name: Straightline Logistics, Inc.

Address: One Cross Island Plaza, Ste. 203-G, Rosedale, NY 11422.

Date Revoked: August 14, 2008.

Reason: Failed to maintain a valid bond.

License Number: 020261F.

Name: TSC Logistics, LLC.

Address: 2500-B Broening Highway, Ste. 100, Baltimore, MD 21224.

Date Revoked: August 23, 2008.

Reason: Failed to maintain a valid bond.

License Number: 021036N.

Name: Tiffany-Michele Nakano dba Accord Relocations.

Address: 67 Lockheed Avenue, Las Vegas, NV 89183.

Date Revoked: July 23, 2008.

Reason: Surrendered license voluntarily.

License Number: 020207F.

Name: United Logistics Services, Inc.

Address: 1911 NW 150th Street, Pembroke Pines, FL 33028.

Date Revoked: August 25, 2008.

Reason: Surrendered license voluntarily.

License Number: 003615F.

Name: Unitrans Consolidated Inc.

Address: 180-02 Eastgate Plaza, Jamaica, NY 11434.

Date Revoked: August 10, 2008.

Reason: Failed to maintain a valid bond.

License Number: 020793N.

Name: Universal Cargo Express, Inc.

Address: 1782 NW 38th Avenue, Lauderdale Lakes, FL 33311.

Date Revoked: August 31, 2008.

Reason: Failed to maintain a valid bond.

License Number: 019340N.

Name: UTS Fast Lane Express Inc. dba UFLEX.

Address: 574 Lyons Avenue, Irvington, NJ 07111.

Date Revoked: August 29, 2008.

Reason: Failed to maintain a valid bond.

License Number: 018030N.

Name: Zohar Worldwide LLC.

Address: 1069 Sneath Lane, San Bruno, CA 94066.

Date Revoked: August 6, 2008.

Reason: Failed to maintain a valid bond.

Sandra L. Kusumoto,
Director, Bureau of Certification and Licensing.

[FR Doc. E8-21767 Filed 9-16-08; 8:45 am]

BILLING CODE 6730-01-P